NATIONAL SCIENCE FOUNDATION

Numeric Panel in Advanced Computational Infrastructure & Research; Notice of Meeting

In accordance with the Federal Advisory Committee Act (Pub. Law 92-463, as amended), the National Science Foundation announces the following meeting:

Name: Special Emphasis Panel in Advanced Computational Infrastructure & Research (#1185).

Date and Time: January 26, 2001, 8:30 am-5 pm.

Place: National Science Foundation, 4201 Wilson Boulevard, Suite 320, Arlington, VA.

Type of Meeting: Closed.

Contact Person: Dr. Charles H. Koelbel, Advanced Computational Research Program, Suite 1122, National Science Foundation, 4201 Wilson Boulevard, Arlington, VA 22230, (703) 292-8962.

Purpose of Meeting: To provide recommendations and advice concerning Parallel Algorithm Proposals submitted to NSF for financial support.

Agenda: To review and evaluate Proposals in the Advanced Computational Research Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: December 26, 2000.
Karen J. York,
Committee Management Officer.

[FR Doc. 00-33436 Filed 12-29-00; 8:45 am]

BILLING CODE 7555-01-M